DEPARTMENT OF TRANSPORTATION

Federal Aviation Administration

14 CFR Part 71

[Airspace Docket No. 00-ANM-04]

RIN 2120-AA66

Modification of Three Jet Routes, Bellingham, WA

AGENCY: Federal Aviation Administration (FAA), DOT.

ACTION: Final rule.

SUMMARY: This action amends the legal descriptions of three Jet routes that use the Bellingham, WA, Very High Frequency Omnidirectional Range/Tactical Air Navigation (VORTAC) in their route structures. Currently, the VORTAC and the International Airport share the “Bellingham” name. However, the navigational aid is approximately nine nautical miles (NM) north of airport. This has caused confusion among users. To eliminate this confusion, the Bellingham VORTAC will be renamed the “Whatcom VORTAC,” and all the jet routes with “Bellingham VORTAC” included in their legal descriptions will be amended to reflect the navigational aid name change.

EFFECTIVE DATE: 0901 UTC, April 20, 2000.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

The Rule

This action amends 14 CFR part 71 by changing the legal descriptions of three Jet Routes that have “Bellingham VORTAC” included as part of their route structure. Currently, the VORTAC and the International Airport share the “Bellingham” name but are approximately nine NM apart. This has led to confusion among users. To eliminate this confusion, the Bellingham VORTAC will be renamed the “Whatcom VORTAC,” and all the routes with “Bellingham VORTAC” included in their legal descriptions will be amended to reflect the VORTAC's name change. The name change of the VORTAC will coincide with the effective date of this rulemaking action.

Since this action merely involves editorial changes to the legal descriptions of the four Federal airways, and does not involve a change in the dimensions or operating requirements of the airways, notice and public procedure under 5 U.S.C. 553(b) are unnecessary.

The FAA has determined that this regulation only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

Jet routes are published in paragraph 2004 of FAA Order 7400.9G, dated September 1, 1999, and effective September 16, 1999, which is incorporated by reference in 14 CFR 71.1. The jet routes listed in this document will be published subsequently in the Order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 2004—Jet Routes

* * * * *

J-528 [Revised]

From Whatcom, WA, to Williams Lake, BC, Canada. The airspace within Canada is excluded.

* * * * *

J-534 [Revised]

From INT Seattle, WA, 033° and Whatcom, WA, 090° radials; Whatcom; to Williams Lake, BC, Canada, excluding the airspace within Canada.

J-591 [Revised]

From Whatcom, WA; to Kelowna, BC, Canada. The segment within Canada is excluded.

* * * * *

Issued in Washington, DC, on March 2, 2000.
Reginald C. Matthews,
Manager, Airspace and Rules Division.

[FR Doc. 00-5950 Filed 3-9-00; 8:45 am]

BILLING CODE 4910-13-U